GENERAL SERVICES ADMINISTRATION

Federal Supply Service; Household Goods Tender of Service (HTOS); Conversion of Centralized Household Goods Traffic Management Program (CHAMP) Flat Industrial Funding Fee (IFF) to a Percentage IFF

AGENCY: Federal Supply Service, GSA.

ACTION: Notice of final implementation of new CHAMP percentage IFF.

SUMMARY: This notice announces GSA's conversion of the CHAMP IFF from a $145 flat fee to a comparable percentage IFF computed on a shipment's total net transportation charge (excluding storage in transit (SIT) fees) as follows: 2.5 percent (.025) for shipments that move between points wholly within the continental United States, and 1.5 percent (.015) for all other shipments. The change merely is procedural in nature and not intended to result in additional cost to customer agencies. It's purpose is to align the CHAMP IFF with the percentage IFF calculation method the Federal Supply Service uses to fund most of its other programs, and to automatically keep pace with inflation.

DATES: This change is effective November 1, 2002.

FOR FURTHER INFORMATION CONTACT: Ms. Lynn Ju, Transportation Programs Branch, by phone at 703-305-7060 or by e-mail at lynnette.ju@gsa.gov.

SUPPLEMENTARY INFORMATION: GSA published a notice in the Federal Register on June 21, 2002 (67 FR 42259) soliciting comments on our proposal to convert the CHAMP IFF from a $145 flat fee to a comparable fee of 2.75 percent of a shipment's total net transportation charge (excluding storage in transit (SIT) fees). We received comments, categorized as follows, from 3 federal agencies, 4 transportation service providers, and 2 industry associations:

Shipments Moving Wholly Within the Continental United States

• Moyer & Sons Moving and Storage, Inc., Department of Interior, and Bureau of Prisons recommended an IFF of less than 2.75 percent.

• American Moving and Storage Association (AMSA) recommended a 3.0 percent IFF.

Shipments Other Than Shipments Moving Wholly Within the Continental United States

• Atlas Van Lines International, RBI Global Relocation Services, Department of State, and Department of Interior recommended an IFF of less than 2.75 percent.

• Bureau of Prisons recommended an IFF of no more than 2 percent.

• AMSA recommended a 1.75 percent IFF.

• Arpin International Group and the Household Goods Forwarders Association of America, Inc. recommended a 1.5 percent IFF.

Following publication of the request for comments, GSA met with the household goods carrier and forwarder associations and with GSA customer agencies. We analyzed agencies' shipment data (volume, net shipment charges, and IFF's submitted), and carefully considered all comments received. Based on the comments, our data analysis, and careful deliberation, we have established the new percentage IFF at 2.5 percent for shipments that move between points wholly within the continental United States, and 1.5 percent for all other shipments. These percentage levels, reflecting the concerns of our customers expressed in their comments, will generate an IFF charge per shipment generally equivalent to the current $145 flat fee. The percentage will be applied as reflected in the Request for Offers; i.e. on a multiple component shipment (household goods, privately owned vehicle (POV), and/or unaccompanied baggage) it will be applied to the highest weighted component shipped within a 6-month period; it will be separately applied to any component shipped more than 6 months after shipment of the initial component.

This change aligns the CHAMP IFF with the Federal Supply Service's funding mechanism for most of its other programs and automatically will adjust to the level of inflation. The method of collection will remain the same. That is, transportation service providers will continue to incorporate the IFF in the discounted rates they file with GSA and will pay the IFF to GSA, albeit based on the applicable percentage of a shipment's net transportation charge (absent SIT) instead of a flat fee.

GSA will monitor agencies' shipment volumes, net transportation charges, and IFF's calculated under the new percentages to determine the need for any future adjustments. We value our customers and want to ensure CHAMP funding is commensurate with providing quality service while covering our costs and no higher.

The conversion to a percentage IFF requires certain revisions to the HTOS which are reflected in the attachment to this notice. The currently effective percentage IFF will be specified in each GSA Request for Offers.

Dated: August 2, 2002.
Jeffrey J. Thurston,
Acting Assistant Commissioner, Officer of Transportation and Property Management.

Attachment—Changes to Household Goods Tender of Service, Section 9—Reporting Requirements

9-3.1.4 Industrial Funding Fee

The Industrial Funding Fee (IFF) amount must equal the sum of all shipment net charges reported in HTOS Section 9-3.1.2, multiplied by the applicable IFF percentage identified in the Request for Offers. Any deficiencies identified will be handled as specified in HTOS Sections 9-3.1.4.1. and 9-3.1.4.2.

9-3.2.2.2. Shipment Report Spreadsheet Format

Entry format is text entry (i.e., left aligned). Fields marked with an asterisk (*) are numeric and must, if necessary, be zero filled from the left (i.e., 00250 for 250) depending on the field size. Save the file as a comma-separated file (.CSV) then rename as necessary (.SHP or .ERS).

Field | Required positions | Record position(s) | Contents
Record ID | 1 | 1 | Must be S.
Field Delimiter | 1 | 2 | Comma.
SCAC | 4 | 3-6 | Four (4) digit Standard Carrier Alpha Code (SCAC) identifying the carrier the GBL/CBL was issued to.
Field Delimiter | 1 | 7 | Comma.
Type of Transportation | 2 | 8-9 | Enter GD for General Domestic, GI for General International, DD for Direct Domestic Move Management (MMS), DI for Direct International MMS, BD for Broker Domestic MMS, or BI for Broker International MMS.
Field Delimiter | 1 | 10 | Comma.
Type of Move | 3 | 11-13 | If the GBL/CBL was used for household goods, put in HHG; for Automobile, put in POV; for Unaccompanied Air Baggage, put in UAB. **If multiple elements were moved using one GBL/CBL, each element must have an individual shipment record.
Field Delimiter | 1 | 14 | Comma.
Federal Agency Identification Code | 9 | 15-23 | Agency's 9 digit User ID code used to access ITMS. This User ID can be obtained directly from the user agency or from the ITMS system itself. If unable to obtain the proper User ID, please contact the PMO. Records with this field blank. X or zero-filled will not be accepted.
Field Delimiter | 1 | 24 | Comma.
Carrier Reference Number | 15 | 25-39 | Carrier reference number used when the shipment was booked by the carrier. Start the reference number with position 25. If reference number does not consist of 15 numbers, place X's after number to fill out the 15 positions. Example: Reference number 135895 would appear as 135895XXXXXXXXX. Records with this field blank, X or zero filled will not be accepted.
Field Delimiter | 1 | 40 | Comma.
Billing Date | 8 | 41-48 | Date of Agency Billing (YYYYMMDD) (Example: 20020215 = February 15, 2002).
Field Delimiter | 1 | 49 | Comma.
BL Number | 8 | 50-57 | Bill of Lading Number. Use GBL/CBL number associated with the shipment. If CBL number is less then 8 characters, place X's after the number to fill in field. Records with this field blank or zero filled will not be accepted.
Field Delimiter | 1 | 58 | Comma.
Type of GBL/CBL | 1 | 59 | Input V if Virtual GBL/CBL was used. Input G if Standard GBL/CBL was used.
Field Delimiter | 1 | 60 | Comma.
Pickup Date | 8 | 61-68 | YYYYMMDD (see Billing Date).
Field Delimiter | 1 | 69 | Comma.
Delivery Date | 8 | 70-77 | YYYYMMDD (see Billing Date).
Field Delimiter | 1 | 78 | Comma.
*Transit Time | 3 | 79-81 | Actual Transit Time in days. Example: 007 = 7 days/.
Field Delimiter | 1 | 82 | Comma.
Origin State or Country Code | 4 | 83-86 | Four digit state or country identifier. State is the two digit state identifier, all CAPS, plus two (2) zeros (0). Example: FL00. Country code is the four-digit country code as listed in the most current Request For Offers. Example: Germany = 3940. Records with this field blank, X or zero filled will not be accepted.
Field Delimiter | 1 | 87 | Comma.
Origin Zip Code | 5 | 88-92 | 5-digit zip (X Fill for Canada or International Shipments).
Field Delimiter | 1 | 93 | Comma.
Destination State or Country Code | 4 | 94-97 | See Origin State above. Records with this field blank, X or zero filled will not be accepted.
Field Delimiter | 1 | 98 | Comma.
Destination Zip Code | 5 | 99-103 | 5-digit zip (X Fill for Canada or International Shipments).
Field Delimiter | 1 | 104 | Comma.
*Actual Weight Shipped | 5 | 105-109 | In pounds for HHG or UAB. Example: 09800 = 9800 pounds. If the record is for POV, place five (5) zeros, 00000. **If field is zero filled for POV, positions 11-13 must state POV.
Field Delimiter | 1 | 110 | Comma.
*Mileage | 4 | 111-114 | Whole miles only. Example: 0750 = 750 miles. This field should be zero filled for International moves.
Field Delimiter | 1 | 115 | Comma.
*Discount Offered | 3 | 116-118 | Domestic: Discount off the current 415 tariff; International: Percentage of the base line rate tables contained in the Request for Offers.
Field Delimiter | 1 | 119 | Comma.
*Gross Charges | 5 | 120-124 | Exclusive of SIT charges, in whole dollars only.
Field Delimiter | 1 | 125 | Comma.
*Net Charges | 5 | 126-130 | Exclusive of SIT charges, in whole dollars only. Example: 07600 = $7,600.00.
Field Delimiter | 1 | 131 | Comma.
Employee's Last Name | 15 | 132-146 | Last name of the employee listed on the GBL/CBL in all CAPS. If the employee's name does not consist of 15 letters, place X's after the name to fill out the 15 positions. Example: The name of Jones would appear as JONESXXXXXXXXXX. Records with this field blank, X or zero filled will not be accepted.
Field Delimiter | 1 | 147 | Comma.
Participant's Tax ID Number | 9 | 148-156 | Participant TIN.

A | B | C | D | E | F | G | H | I | J | K | L
S | GSAA | GD | HHG | RXPG8TY43 | Q794912349XXXXX | 19990612 | S12345XX | V | 19990105 | 19990312 | 007

M | N | O | P | Q | R | S | T | U | V | W
MO00 | 64131 | OK00 | 71222 | 10030 | 0400 | 056 | 12500 | 05500 | SMITH-BATTSONXX | 103777444

A | B | C | D | E | F | G | H | I | J | K | L
S | GSAA | GI | POV | RXPG8TY43 | Q794-P912666XXX | 19991012 | PP123456 | G | 19990601 | 19990724 | 053

M | N | O | P | Q | R | S | T | U | V | W
MO00 | 64131 | 490J | XXXXX | 00000 | 0000 | 165 | 15500 | 15500 | SMITH-BATTSONXX | 103777444

[FR Doc. 02-20127 Filed 8-8-02; 8:45 am]

BILLING CODE 6820-24-M